INTERNATIONAL TRADE COMMISSION

[Investigation Nos. 731-TA-391A-393A (Third Review)]

Ball Bearings and Parts Thereof From France, Germany, and Italy; Termination of Five-Year Reviews

AGENCY: United States International Trade Commission.

ACTION: Notice.

SUMMARY: The subject five-year reviews were initiated in August 2011 to determine whether revocation of the antidumping duty orders on ball bearings and parts thereof from France, Germany, and Italy would be likely to lead to continuation or recurrence of material injury. The Department of Commerce published notice that it was revoking the order effective September 15, 2011, because “no domestic interested party filed a notice of intent to participate in response to the notice of initiation of the sunset reviews by the applicable deadline.” (76 FR 57019). Accordingly, pursuant to section 751(c) of the Tariff Act of 1930 (19 U.S.C. 1675(c)), the subject reviews are terminated.

DATES: Effective Date: September 21, 2011.

FOR FURTHER INFORMATION CONTACT: Mary Messer (202-205-3193), Office of Investigations, U.S. International Trade Commission, 500 E Street, SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov).

Authority: These reviews are being terminated under authority of title VII of the Tariff Act of 1930; this notice is published pursuant to section 207.69 of the Commission's rules (19 CFR 207.69).

Issued: September 26, 2011.
By order of the Commission.
James R. Holbein,
Secretary to the Commission.

[FR Doc. 2011-25206 Filed 9-29-11; 8:45 am]

BILLING CODE 7020-02-P